DEPARTMENT OF LABOR

Employment and Training Administration

[TA-W-63,960]

Peoploungers, Inc., Mantachie, MS; Notice of Termination of Investigation

Pursuant to Section 221 of the Trade Act of 1974, as amended, an investigation was initiated on August 29, 2008 in response to a worker petition filed by a company official on behalf of workers at Peoploungers, Inc., Mantachie, Mississippi.

The petitioning group of workers is covered by an active certification (TA-W-62,583A, amended), which expires on September 23, 2010. Consequently, further investigation in this case would serve no purpose, and the investigation has been terminated.

Signed at Washington, DC this 24th day of September 2008.
Linda G. Poole,
Certifying Officer, Division of Trade Adjustment Assistance.

[FR Doc. E8-23294 Filed 10-2-08; 8:45 am]

BILLING CODE 4510-FN-P